ENVIRONMENTAL PROTECTION AGENCY

[EPA-HQ-OAR-2011-0742; FRL-9928-48-OEI]

Proposed Information Collection Request; Comment Request; Aircraft Engines—Supplemental Information Related to Exhaust Emissions (Renewal)

AGENCY: Environmental Protection Agency (EPA).

ACTION: Notice.

SUMMARY: The Environmental Protection Agency is planning to submit an information collection request (ICR), “Aircraft Engines—Supplemental Information Related to Exhaust Emissions” (EPA ICR No. 2427.03, OMB Control No. 2060-0680) to the Office of Management and Budget (OMB) for review and approval in accordance with the Paperwork Reduction Act (44 U.S.C. 3501 et seq.). Before doing so, EPA is soliciting public comments on specific aspects of the proposed information collection as described below. This is a proposed extension of the ICR. An agency may not conduct or sponsor and a person is not required to respond to a collection of information unless it displays a currently valid OMB control number.

DATES: Comments must be submitted on or before July 28, 2015.

ADDRESSES: Submit your comments, referencing the Docket ID Number above, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Alan Stout, Office of Air and Radiation, U.S. Environmental Protection Agency; telephone number: 734-214-4805; email address: stout.alan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Clean Air Act section 231 (42 U.S.C. 7571) authorizes EPA to adopt emission standards for aircraft engines. The Clean Air Act additionally provides broad authority for EPA to collect information related to the regulations we adopt for aircraft and other emission sources (42 U.S.C. 7414(a)(1)). EPA is accordingly adopting a new set of emission standards for aircraft gas turbine engines and adding a requirement for manufacturers to submit information related to compliance with the emission standards.

Respondents/affected entities: Manufacturers.

Respondent's obligation to respond: Mandatory.

Estimated number of respondents: 10 (total).

Frequency of response: Annual.

Currently approved estimated burden: 60 hours (per year). Burden is defined at 5 CFR 1320.03(b).

Currently approved estimated cost: No annualized capital or operation & maintenance costs.

Changes in estimates: The final ICR submitted to OMB will contain revised burden estimates that reflect any changes to the collection over the past three years and any public comments received.

Courtney Kerwin,
Acting Director, Collections Strategies Division.

[FR Doc. 2015-12942 Filed 5-28-15; 8:45 am]

BILLING CODE 6560-50-P